DEPARTMENT OF HEALTH AND HUMAN SERVICES

Health Resources and Services Administration

Agency Information Collection Activities: Proposed Collection: Public Comment Request; Information Collection Request Title: Implement Maternal, Infant, and Early Childhood Home Visiting Program 2022 Legislative Changes: Assessment of Administrative Burden

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than February 20, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Implement Maternal, Infant, and Early Childhood Home Visiting Program 2022 Legislative Changes: Assessment of Administrative Burden, OMB No. 0906-xxxx—[New].

Abstract: The Consolidated Appropriations Act, 2023, Public Law 117-328, Section 6101, the Jackie Walorski Maternal and Child Home Visiting Reauthorization Act of 2022 (Section 6101 of the Consolidated Appropriations Act, 2023) extended funding for the Maternal, Infant, and Early Childhood Home Visiting (MIECHV) Program for an additional 5 years and adopted new program requirements. This included a new requirement for the Secretary of Health and Human Services to assess and reduce burden on MIECHV funding recipients in administering the program by (1) eliminating duplication and streamlining reporting requirements; (2) analyzing ways, in consultation with administering agencies (i.e., MIECHV funding recipients) to reduce the number of hours spent on complying with paperwork requirements by at least 15 percent; (3) reviewing paperwork and data collection requirements for tribal MIECHV funding recipients and exploring, in consultation with tribes and tribal organizations, ways to reduce administrative burden, respect sovereignty, and acknowledge the different focus points for tribal funding recipients; (4) collecting input from relevant state fiscal officials to align fiscal requirements and oversight for states and eligible entities to ensure consistency with standards and guidelines for other federal formula grant programs; and (5) consulting with administering agencies and service delivery model representatives on needed and unneeded data elements regarding the dashboards provided for in newly added Social Security Act subsection 511(d)(1)(B), consistent with the data requirements of such subsection.

Through this ICR, HRSA aims to survey state, jurisdiction, and tribal MIECHV funding recipients to obtain feedback regarding potential ways to reduce administrative burden, as described above. Home visiting model developers will also be surveyed on potential ways to reduce administrative burden in their work to refine data collection requirements that align with MIECHV Program requirements.

Need and Proposed Use of the Information: Section 511(h)(6)(A) of the Social Security Act requires the Secretary of Health and Human Services to assess and reduce administrative burden on MIECHV funding recipients. Information gained from this information collection will inform recommendations to reduce administrative burden.

Likely Respondents: State and jurisdiction MIECHV Program funding recipients that are states, territories, and, where applicable, nonprofit organizations receiving MIECHV funding to provide home visiting services within states; tribal MIECHV Program funding recipients that are tribes and tribal organizations; and developers of home visiting models that are eligible for MIECHV funding.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
State and Jurisdiction MIECHV Funding Recipient Survey | 56 | 1 | 56 | 1.25 | 70
Tribal MIECHV Funding Recipient Survey | 28 | 1 | 28 | 1.25 | 35
Home Visiting Model Developer Survey | 24 | 1 | 24 | 1.25 | 30
Total | 108 | 1 | 108 |  | 135

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2023-27895 Filed 12-19-23; 8:45 am]

BILLING CODE 4165-15-P